INTERNATIONAL TRADE COMMISSION

[USITC SE-17-036]

Government in the Sunshine Act Meeting Notice

Agency Holding the Meeting: United States International Trade Commission.

Time and Date: August 25, 2017 at 11:00 a.m.

Place: Room 101, 500 E Street SW., Washington, DC 20436, Telephone: (202) 205-2000.

Status: Open to the public.

Matters to be Considered:

1. Agendas for future meetings: None.

2. Minutes.

3. Ratification List.

4. Vote in Inv. Nos. 701-TA-583 and 731-TA-1381 (Preliminary) (Cast Iron Soil Pipe Fittings from China). The Commission is currently scheduled to complete and file its determination on August 28, 2017; views of the Commission are currently scheduled to be completed and filed on September 5, 2017.

5. Outstanding action jackets: None.

In accordance with Commission policy, subject matter listed above, not disposed of at the scheduled meeting, may be carried over to the agenda of the following meeting.

By order of the Commission.
Issued: August 16, 2017.
Katherine M. Hiner,
Supervisory Attorney.

[FR Doc. 2017-17864 Filed 8-18-17; 4:15 pm]

BILLING CODE 7020-02-P